DEPARTMENT OF STATE

[Public Notice: 7331]

U.S. Department of State Advisory Committee on Private International Law (ACPIL): Notice of Public Meeting of Its Online Dispute Resolution (ODR) Study Group

The Office of the Assistant Legal Adviser for Private International Law, Department of State hereby gives notice of a public meeting of the ACPIL ODR Study Group. The meeting will take place on Friday, April 29, 2011 from 10 a.m. to 1 p.m. EDT at the Department of State, Washington, DC. This is not a meeting of the full Advisory Committee.

The ODR Study Group will meet to discuss the upcoming meeting of the UNCITRAL ODR Working Group that will take place May 23-27 in New York. The UNCITRAL ODR Working Group is charged with the development of legal instruments for resolving both business to business and business to consumer cross-border electronic commerce disputes. At the May meeting, the UNCITRAL Working Group will consider inter alia ODR procedural rules for resolution of cross-border electronic commerce disputes. For the report of the first session of the UNCITRAL ODR Working Group December 13-17, 2010 in Vienna (A/CN.9/716) please follow the following link: http://daccess-dds-ny.un.org/doc/UNDOC/GEN/V11/801/48/PDF/V1180148.pdf?OpenElement. For the draft text of online procedural rules that will be considered at the upcoming ODR Working Group session please see the following link: http://daccess-dds-ny.un.org/doc/UNDOC/LTD/V11/813/11/PDF/V1181311.pdf?OpenElement.

Time and Place: The meeting will take place on Friday April 29, 2011 from 10 a.m. to 1 p.m. EDT at the Office of the Assistant Legal Adviser for Private International Law, Department of State, Washington, DC. Participants should appear by 9:45 a.m. at the C Street gate to Navy Hill, corner of C Street, NW., and 23rd Street, NW.

Public Participation: This Study Group meeting is open to the public, subject to the capacity of the meeting room. Access to the meeting building is controlled; persons wishing to attend should contact Tricia Smeltzer or Niesha Toms of the Department of State Legal Adviser's Office at SmeltzerTK@state.gov or TomsNN@state.gov and provide your name, affiliation, e-mail address, and mailing address. Data from the public is requested pursuant to Public Law 99-399 (Omnibus Act of 1986) as amended; Public Law 107-56 (USA PATROIT ACT): and Executive Order 13356. The primary purpose for collecting is to validate the identity of individuals who enter Department facilities. Please see the Privacy Impact Assessment for VACS-D at http://www.state.gov/documents/organization/100305.pdf for additional information. Persons who cannot attend but who wish to comment are welcome to do so by e-mail to Michael Dennis at DennisMJ@state.gov. A member of the public needing reasonable accommodation should advise those same contacts not later than April 15th. Requests made after that date will be considered, but might not be able to be fulfilled. If you are unable to attend the public meeting and you would like to participate by teleconferencing, please contact Tricia Smeltzer or Niesha Toms at 202-776-8420 to receive the conference call-in number and the relevant information.

Dated: March 31, 2011.
Michael J. Dennis,
Attorney-Adviser, Office of Private International Law, Office of the Legal Adviser, Department of State.

[FR Doc. 2011-8454 Filed 4-7-11; 8:45 am]

BILLING CODE 4710-08-P